DEPARTMENT OF HEALTH AND HUMAN SERVICES

Solicitation of Nomination for Appointment to the Advisory Committee on Minority Health; Extension

AGENCY: Department of Health and Human Services, Office of the Secretary.

ACTION: Notice; extension.

SUMMARY: The Department of Health and Human Services published a document in the Federal Register of July 17, 2007, Vol 72, No. 136, pages 39068 through 39069. The notice solicits nominations for appointment to the Advisory Committee on Minority Health. This notice is for the purpose of extending the period for nominations for an additional 45 days.

DATES: Nominations for membership on the Committee must be received no later than 5 p.m. EST on November 13, 2007.

ADDRESSES: All nominations should be mailed or delivered to Dr. Garth Graham, Deputy Assistant Secretary for Minority Health, Office of Minority Health, Office of Public Health and Science, Department of Health and Human Services, 1101 Wootton Parkway, Suite 600, Rockville, MD 20852.

FOR FURTHER INFORMATION CONTACT: Ms. Monica Baltimore, Executive Director, Advisory Committee on Minority Health, (240) 453-2882.

Dated: September 18, 2007.
Mirtha R. Beadle,
Deputy Director, OMH.

[FR Doc. E7-19084 Filed 9-26-07; 8:45 am]

BILLING CODE 4150-29-P